DEPARTMENT OF COMMERCE

International Trade Administration

[A-533-885]

Polyester Textured Yarn From India: Final Results of Antidumping Duty Administrative Review; 2023

AGENCY: Enforcement and Compliance, International Trade Administration, Department of Commerce.

SUMMARY: The U.S. Department of Commerce (Commerce) determines that polyester textured yarn (yarn) from India was not sold at less than normal value during the period of review (POR), January 1, 2023, through December 31, 2023.

DATES: Applicable June 12, 2025.

FOR FURTHER INFORMATION CONTACT: Mira Warrier, AD/CVD Operations, Office II, Enforcement and Compliance, International Trade Administration, U.S. Department of Commerce, 1401 Constitution Avenue NW, Washington, DC 20230; telephone: (202) 482-8031.

SUPPLEMENTARY INFORMATION:

Background

On March 28, 2025, Commerce published in the Federal Register the Preliminary Results of the 2023 administrative review of the antidumping duty order on yarn from India.¹ The review covers the sole mandatory respondent, AYM Syntex Limited (AYM). We invited interested parties to comment on the Preliminary Results.² On April 18, 2025, AYM submitted a case brief.³ Because Commerce received no comments requiring changes to the Preliminary Results, we have not modified our dumping margin calculations nor analysis, and thus, no decision memorandum accompanies this Federal Register notice. Accordingly, the final results are unchanged from the Preliminary Results, and we are adopting the Preliminary Results as the final results of this review. Commerce conducted this review in accordance with section 751(a)(1)(B) of the Tariff Act of 1930, as amended (the Act).

¹ See Polyester Textured Yarn from India: Preliminary Results of Antidumping Duty Administrative Review; 2023, 90 FR 14079 (March 28, 2025) (Preliminary Results).

² Id.

³ See AYM's Letter, “AYM's Case Brief,” dated April 18, 2025 (AYM Case Brief).

Scope of the Order

The merchandise covered by the Order, polyester textured yarn, is synthetic multifilament yarn that is manufactured from polyester (polyethylene terephthalate). Polyester textured yarn is produced through a texturing process, which imparts special properties to the filaments of the yarn, including stretch, bulk, strength, moisture absorption, insulation, and the appearance of a natural fiber. This scope includes all forms of polyester textured yarn, regardless of surface texture or appearance, yarn density and thickness (as measured in denier), number of filaments, number of plies, finish (luster), cross section, color, dye method, texturing method, or packing method (such as spindles, tubes, or beams).

Excluded from the scope of this Order is bulk continuous filament yarn that: (a) is polyester synthetic multifilament yarn; (b) has denier size ranges of 900 and above; (c) has turns per meter of 40 and above; and (d) has a maximum shrinkage of 2.5 percent.

The merchandise subject to this Order is properly classified under subheadings 5402.33.3000 and 5402.33.6000 of the Harmonized Tariff Schedule of the United States (HTSUS). Merchandise subject to this Order may also enter under HTSUS subheading 5402.52.00. Although the HTSUS subheadings are provided for convenience and customs purposes, the written description of the merchandise is dispositive.

Final Results of Review

Although AYM submitted a case brief, it did not request any changes to the Preliminary Results in this review. In AYM's case brief, it requested that Commerce revise the final liquidation instructions to reflect the full name of the company “AYM Syntex Limited.” ⁴ While Commerce accepts the request to revise the final liquidation instructions, the request does not change the final results in this administrative review.

⁴ Id.

As a result of this review, we determine the following estimated weighted-average dumping margin exists for the POR:

Exporter or producer | Weighted-average dumping margin (percent)
AYM Syntex Limited | 0.00

Disclosure

Normally, Commerce discloses to interested parties the calculations performed in final results within five days of any public announcement or, if there is no public announcement, within five days of the date of publication of the notice of final results in the Federal Register, in accordance with 19 CFR 351.224(b). However, because we have made no changes from the Preliminary Results, there are no new calculations to disclose in accordance with 19 CFR 351.224(b) for these final results.

Assessment Rates

Pursuant to section 751(a)(2)(C) of the Act, and 19 CFR 351.212(b)(1), Commerce has determined, and U.S. Customs and Border Protection (CBP) shall assess, antidumping duties on all appropriate entries of subject merchandise in accordance with the final results of this review.

For AYM, because its weighted-average dumping margin is zero, we will instruct CBP to liquidate entries reported in this review without regard to antidumping duties. Consistent with Commerce's “automatic assessment” practice, for entries of subject merchandise during the POR produced by AYM for which it did not know its merchandise was destined for the United States (i.e., entries sold through a reseller, trading company, or exporter), we will instruct CBP to liquidate unreviewed entries at the all-others rate if there is no rate for the intermediate company(ies) involved in the transaction.⁵

⁵ For a full discussion of this practice, see Antidumping and Countervailing Duty Proceedings: Assessment of Antidumping Duties, 68 FR 23954 (May 6, 2003).

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective for all shipments of the subject merchandise entered, or withdrawn from warehouse, for consumption on or after the publication date in the Federal Register of the final results of this administrative review, as provided by section 751(a)(2)(C) of the Act: (1) the cash deposit rate for AYM Syntex Limited will be equal to the weighted-average dumping margin established in the final results of this administrative review (i.e., 0.00 percent); (2) for merchandise exported by a company not covered in this review but covered in a prior completed segment of the proceeding, the cash deposit rate will continue to be the company-specific rate published in the completed segment for the most recent period; (3) if the exporter is not a firm covered in this review, or a previous segment, but the producer is, the cash deposit rate will be the rate established in the completed segment for the most recent period for the producer of the merchandise; and (4) the cash deposit rate for all other producers or exporters will continue to be 13.50 percent,⁶ the all-others rate established in the less than fair value investigation.⁷ These cash deposit requirements, when imposed, shall remain in effect until further notice. These deposit requirements, when imposed, shall remain in effect until further notice.

⁶ See Order, 85 FR at 1300.

⁷ Id.

Notification to Importers

This notice also serves as a final reminder to importers of their responsibility under 19 CFR 351.402(f)(2) to file a certificate regarding the reimbursement of antidumping and/or countervailing duties prior to liquidation of the relevant entries during the POR. Failure to comply with this requirement could result in Commerce's presumption that reimbursement of antidumping and/or countervailing duties occurred and the subsequent assessment of double antidumping duties and/or increase in the amount of antidumping duties by the amount of the countervailing duties.

Administrative Protective Order (APO)

This notice also serves as a reminder to parties subject to an APO of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and terms of an APO is a sanctionable violation.

Notification to Interested Parties

We are issuing and publishing this notice in accordance with sections 751(a)(1) and 777(i)(1) of the Act, and 19 CFR 351.221(b)(5).

Dated: June 5, 2025.
Christopher Abbott,
Deputy Assistant Secretary for Policy and Negotiations, performing the non-exclusive functions and duties of the Assistant Secretary for Enforcement and Compliance.

[FR Doc. 2025-10655 Filed 6-11-25; 8:45 am]

BILLING CODE 3510-DS-P